SURFACE TRANSPORTATION BOARD

[Docket No. AB 55 (Sub-No. 764X)]

CSX Transportation, Inc.—Discontinuance of Service Exemption—in Pike County, KY

CSX Transportation, Inc. (CSXT), filed a verified notice of exemption under 49 CFR part 1152 subpart F—Exempt Abandonments and Discontinuances of Service to discontinue service over an approximately 5.1-mile rail line on its Northern Region, Louisville Division, and Coal Run Subdivision (also known as the Winns Branch), between mileposts CML 9.0 and CML 14.1, in Pike County, KY (the Line). The Line traverses United States Postal Service Zip Codes 41557 and 41501. There is one station on the Line, Frozen Creek at milepost 14 (FSAC 84185/OPSL 67466.08), which can be closed.

CSXT has certified that: (1) No local traffic has moved over the Line for at least two years; (2) since the Line is not a through line, no overhead traffic has moved over the Line; (3) no formal complaint filed by a user of rail service on the Line (or by a state or local government entity acting on behalf of such user) regarding cessation of service over the Line either is pending before the Surface Transportation Board or any U.S. District Court or has been decided in favor of a complainant within the two-year period; and (4) the requirements at 49 CFR 1105.12 (newspaper publication), and 49 CFR 1152.50(d)(1) (notice to governmental agencies) have been met.¹

¹ Section 1152.50(d)(1) requires that a railroad provide notice to governmental agencies 10 days before filing a notice for discontinuance. CSXT filed its notice with the Board on September 7, 2016, eight days after mailing notice of the proposed discontinuance to the governmental agencies. Therefore, we will consider the notice to have been filed with the Board on September 9, 2016.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on October 29, 2016 (50 days after the filing of the exemption), unless stayed pending reconsideration. Petitions to stay that do not involve environmental issues and formal expressions of intent to file an OFA to subsidize continued rail service under 49 CFR 1152.27(c)(2) ² must be filed by October 7, 2016.³ Petitions to reopen must be filed by October 19, 2016, with the Surface Transportation Board, 395 E Street SW., Washington, DC 20423-0001.

² Each OFA must be accompanied by the filing fee, which is currently set at $1,600. See 49 CFR 1002.2(f)(25).

³ Because CSXT is seeking to discontinue service, not to abandon the Line, trail use/rail banking and public use conditions are not appropriate. Because there will be environmental review during abandonment, this discontinuance does not require an environmental review.

A copy of any petition filed with the Board should be sent to CSXT's representative: Louis E. Gitomer, 600 Baltimore Ave., Suite 301, Towson, MD 21204.

If the verified notice contains false or misleading information, the exemption is void ab initio.

Board decisions and notices are available on our Web site at www.stb.dot.gov.

Decided: September 26, 2016.
By the Board, Rachel D. Campbell, Director, Office of Proceedings.
Kenyatta Clay,
Clearance Clerk.

[FR Doc. 2016-23535 Filed 9-28-16; 8:45 am]

BILLING CODE 4915-01-P